DEPARTMENT OF THE INTERIOR

Bureau of Reclamation

[RR01113000, XXXR0680R1, RR.R0336A1R.7WRMP0032]

Notice To Reopen the Public Comment Period and Notice of Additional Public Meetings for the Kachess Drought Relief Pumping Plant and Keechelus Reservoir-to-Kachess Reservoir Conveyance Draft Environmental Impact Statement, Kittitas and Yakima Counties, Washington

AGENCY: Bureau of Reclamation, Interior.

ACTION: Notice.

SUMMARY: The Bureau of Reclamation is reopening the public comment period for the Kachess Drought Relief Pumping Plant and Keechelus Reservoir-to-Kachess Reservoir Conveyance Draft Environmental Impact Statement (EIS) for another 60 days to allow the public more time to comment. We are also announcing four additional public meetings to be held in May 2015.

DATES: Submit written comments on the scope of the Draft EIS on or before June 15, 2015.

Four public meetings will be held on the following dates and times:

• Monday, May 4, 2015, 1:30 p.m. to 3:30 p.m., and 5 p.m. to 7 p.m., Ellensburg, Washington

• Tuesday, May 5, 2015, 1:30 p.m. to 3:30 p.m., and 5 p.m. to 7 p.m., Cle Elum, Washington

ADDRESSES: Send written comments on the scope of the Draft EIS to Ms. Candace McKinley, Bureau of Reclamation, 1917 Marsh Road, Yakima, WA 98901; or via email to kkbt@usbr.gov. The Draft EIS is accessible on the following Web sites: http://www.usbr.gov/pn/programs/eis/kdrpp/index.html; and http://www.usbr.gov/pn/programs/eis/kkc/index.html.

The public meetings will be held at the following locations:

• Ellensburg—Hal Holmes Community Center, 209 N. Ruby Street, Ellensburg, Washington 98926

• Cle Elum—U.S. Forest Service, Cle Elum Ranger District, Tom Craven Conference Room, 803 W. 2nd Street, Cle Elum, Washington 98922

FOR FURTHER INFORMATION CONTACT: Ms. Candace McKinley, 509-575-5848, ext. 603; or by email at kkbt@usbr.gov.

SUPPLEMENTARY INFORMATION: The Bureau of Reclamation published a notice of availability in the Federal Register on January 9, 2015 (80 FR 1431). The public comment period ended on March 10, 2015. We received numerous comments from the public requesting more time to comment on the project. In response to those comments, we are reopening the public comment period for an additional 60 days.

Public Disclosure

Before including your address, phone number, email address, or other personal identifying information in your comment, you should be aware that your entire comment—including your personal identifying information—may be made publicly available at any time. While you can ask us in your comment to withhold your personal identifying information from public review, we cannot guarantee that we will be able to do so.

Dated: March 9, 2015.
Lorri J. Lee,
Regional Director, Pacific Northwest Region.

[FR Doc. 2015-08626 Filed 4-14-15; 8:45 am]

BILLING CODE 4332-90-P